DEPARTMENT OF THE INTERIOR

Fish and Wildlife Service

Information Collection To Be Submitted to the Office of Management and Budget (OMB) for Approval Under the Paperwork Reduction Act; Special Use Permit Application Form for Alaska Refuges

AGENCY: Fish and Wildlife Service, Interior.

ACTION: Notice; request for comments.

SUMMARY: The U.S. Fish and Wildlife Service will submit the collection of information listed below to OMB for approval under the provisions of the Paperwork Reduction Act. We have included an estimate of the information collection burden in this notice. If you wish to obtain copies of the proposed information collection requirement, related forms, and explanatory material, contact the Service Information Collection Clearance Officer at the address listed below.

DATES: We accept comments until April 15, 2003.

ADDRESSES: Send your comments on the requirement to Anissa Craghead, Information Collection Clearance Officer, U.S. Fish and Wildlife Service, ms 222—ARLSQ, 4401 N. Fairfax Dr., Arlington, VA 22203; or Anissa_Craghead@fws.gov.

FOR FURTHER INFORMATION CONTACT: To request a copy of the information collection request, explanatory information, and related forms, contact Anissa Craghead at (703) 358-2445 or Anissa_Craghead@fws.gov.

SUPPLEMENTARY INFORMATION: The Office of Management and Budget (OMB) regulations at 5 CFR part 1320, which implement provisions of the Paperwork Reduction Act of 1995 (44 U.S.C. 3501 et seq.), require that interested members of the public and affected agencies have an opportunity to comment on information collection and recordkeeping activities (see 5 CFR 1320.8(d)). We plan to submit a request to OMB to renew its approval of the collection of information for special use permit applications on national wildlife refuges in Alaska. We are requesting a 3-year term of approval for this information collection activity. An agency may not conduct or sponsor, and a person is not required to respond to, a collection of information unless it displays a currently valid OMB control number.

The National Wildlife Refuge System Improvement Act of 1997, which amends the National Wildlife Refuge Administration Act (16 U.S.C. 668dd-668ee), requires that we authorize economic privileges on any national wildlife refuge by permit only when the activity will not be incompatible with the purposes for which the refuge was established. The Alaska National Interest Lands Conservation Act (ANILCA) provides for the disposition and use of a variety of federally owned lands in Alaska. Sections 302 and 303 of ANILCA identify the purposes for which each refuge in Alaska was established and shall be managed. Section 304 of ANILCA prohibits us from permitting any use of Alaska refuges unless it is compatible with the purposes of the refuge, and requires that we prescribe regulations and impose terms and conditions as may be necessary and appropriate to ensure activities permitted under any use are so compatible.

Various other sections of ANILCA prescribe additional conditions and requirements for us to permit uses on national wildlife refuges in Alaska. Specifically, section 810 of ANILCA requires that we evaluate the effects of any proposed use on subsistence uses and needs. Section 1303 of ANILCA establishes requirements and conditions for permitting use or construction of cabins, and states that we will issue no special use permits for cabins unless the permit applicant provides certain items of information. Section 1307 of ANILCA contains provisions concerning persons and entities to whom we are to give special rights and preferences with respect to providing commercial visitor services (except for guided hunting and sport fishing services) on units of the National Wildlife Refuge System in Alaska.

Our general refuge regulations provide for public entry for specialized purposes, including economic activities such as the operation of guiding, outfitting, and other visitor services on refuges by concessionaires or cooperators under appropriate contracts or legal agreements (see 50 CFR part 25.61) or special use permits (see 50 CFR parts 26.22(b) and 26.25). Alaska refuge regulations provide the authorities and procedures for selecting permittees on Alaska refuges, the vast majority of which are providers of services and facilities to the public (see 50 CFR parts 36. 37 and 36.41). We issue permits for a specific time period as determined by the type and location of the use or visitor service provided.

We supply refuge special use permit applications to interested Alaska citizens upon request. We use information provided on the permit application to determine whether the applicant is qualified and eligible for a permit. For competitively awarded permits, we use the information to ensure that we select the most qualified applicants to receive the benefit of a refuge permit. In applicable situations, we also use the information to determine the applicant's eligibility for special rights and preferences required by section 1307 of ANILCA. In addition, Alaska refuge managers need the information requested on the permit application to evaluate potential impacts of the proposed uses on refuge resources and other refuge users. Using information provided on the application form, refuge managers must determine or ensure that the proposed uses are compatible with the purposes of the refuge, provide safe and high quality visitor services to the public, and are consistent with other statutory and regulatory requirements for management of Alaska refuges.

Title: Special Use Permit Applications for National Wildlife Refuges in Alaska.

OMB Control Number: 1018-0014.

Service Form Number: 3-2001.

Frequency of Collection: On occasion.

Description of Respondents: Individuals and households; business and other for-profit institutions; not-for-profit institutions; farms; and State, local, or Tribal governments.

Information Collection Burden Estimate
Type of permit application | Annual number of respondents | Completion time (in hrs.) | Annual burden (in hrs.)
Competitively issued permit | 180 | 30 | 5,400
Non-competitively issued permit | 170 | 1.5 | 255
Combined Total | 350 |  | 5,655

We invite comments concerning this renewal on (1) Whether the collection of information is necessary for the proper performance of our functions, including whether the information will have practical utility; (2) The accuracy of our estimate of the burden of the collection of information; (3) Ways to enhance the quality, utility, and clarity of the information to be collected; and (4) Ways to minimize the burden of the collection of information on respondents. This information collection is part of a system of record covered by the Privacy Act (5 U.S.C. 552(a)).

Dated: February 10, 2003.
Anissa Craghead,
Information Collection Officer, Fish and Wildlife Service.

[FR Doc. 03-3743 Filed 2-13-03; 8:45 am]

BILLING CODE 4310-55-P